DEPARTMENT OF COMMERCE

Foreign-Trade Zones Board

[Docket 12-2000]

Foreign-Trade Zone 79; Tampa, Florida: Application for Expansion

An application has been submitted to the Foreign-Trade Zones (FTZ) Board (the Board) by the City of Tampa, Florida, grantee of Foreign-Trade Zone 79, requesting authority to expand its zone to include the Tampa International Airport fuel system which consists of the airport hydrant and storage facilities, a pipeline, and two offsite terminals, within the Tampa Customs port of entry. The application was submitted pursuant to the provisions of the Foreign-Trade Zones Act, as amended (19 U.S.C. 81a-81u), and the regulations of the Board (15 CFR Part 400). It was formally filed on March 28, 2000.

FTZ 79 was approved on May 29, 1982 (Board Order 192, 47 FR 24760, 6/8/82) and expanded on December 29, 1993 (Board Order 676, 59 F.R. 1371, 1/10/94). The zone project currently consists of six sites in the Tampa area: Site 1 (600,000 sq. ft.) Tampa International Center at Adamo Drive and 22nd Street; Site 2 (35 acres) cargo complex adjacent to Tampa International Airport at Tampa Boulevard and Lauber Way, including a parcel at the airport's air cargo facility and the East Tampa Container Station (2 acres), located at 1831 Massaro Boulevard; Site 3 (50 acres) within the 127-acre Tampa Industrial Park, Malcolm McKinley Drive and Fowler Avenue; Site 4 (14 acres) Tampa Convention Center, 333 South Franklin Street; Site 5 (295 acres) at the Tampa Port Authority's Hooker's Point terminal complex at Maritime Boulevard; and Site 6 (33 acres) at Tampa Port Authority's George B. Howell terminal facility, located at 20th and Thrace Streets.

The applicant is now requesting authority to expand the general-purpose zone to include the jet fuel storage and distribution system (100 acres) at the Tampa International Airport. The airport fuel system includes the jet fuel storage farm (3 acres) and hydrant systems (23 acres) at the Tampa International Airport; the petroleum products storage terminal of GATX (31 acres), Hookers Point, Port of Tampa section of the City of Tampa; the petroleum products storage terminal of Motiva (16 acres), 6500 W. Commerce Street, Port Tampa section of the City of Tampa; and, the Tampa Pipeline (26 acres), a dedicated jet fuel carrier line. The GATX terminal is owned and operated by GATX Terminals Corporation; the Motiva terminal is owned and operated by Motiva Enterprises LLC; and, the Tampa dedicated pipeline is owned by the Tampa Pipeline Limited Partnership. Hillsborough County Aviation Authority owns the property that contains the jet fuel storage and distribution facilities at the Tampa International Airport. The City of Tampa owns the land at the GATX terminal and the land at the Tampa Pipeline location. The airport property is leased to the member airlines of the Tampa Fuel Committee. The Aircraft Services International Group (ASIG) will operate the jet fuel storage and distribution facilities at the airport. In addition to the storage of jet fuel, the Motiva and GATX terminals may also use zone status for the receipt and storage of other petroleum products.

No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is June 6, 2000. Rebuttal comments in response to material submitted during the foregoing period may be submitted during the subsequent 15-day period (to June 21, 2000).

A copy of the application and accompanying exhibits will be available for public inspection at each of the following locations:

Office of the Airport Services International Group, Tampa Airport Marriott Hotel, Suite A-23, Tampa, FL 33607

Office of the Executive Secretary, Foreign-Trade Zones Board, Room 4008, U.S. Department of Commerce, 14th & Pennsylvania Avenue, NW, Washington, DC 20230

Dated: March 30, 2000.
Dennis Puccinelli,
Acting Executive Secretary.

[FR Doc. 00-8703 Filed 4-6-00; 8:45 am]

BILLING CODE 3510-DS-P